DEPARTMENT OF JUSTICE

Notice of Lodging of Proposed Consent Decree Under the Comprehensive Environmental Response, Compensation, and Liability Act and Resource Conservation and Recovery Act

Notice is hereby given that on October 20, 2008, a proposed Consent Decree in United States v. Blue Tee Corp., et al., Civil Action No. 6:08-cv-1316, was lodged with the United States District Court for the District of Kansas.

In this action, the United States, on behalf of the United States Environmental Protection Agency (“EPA”), sought the performance of response actions and the recovery of certain response costs incurred and to be incurred as a result of releases and threatened releases of hazardous substances from the Treece Subsite of the Cherokee County Superfund Site located in Cherokee County, Kansas. Pursuant to the proposed Consent Decree, Blue Tee Corp, Gold Fields Mining, LLC, and The Doe Run Resources Corporation agree to perform response actions collectively valued at approximately $4.6 million, and to pay certain response costs. The proposed Consent Decree provides the Settling Defendants with a covenant not to sue on the terms set forth therein pursuant to Sections 106 and 107(a) of CERCLA, 42 U.S.C. 9606 and 9607(a), and Section 7003 of the Resource Conservation and Recovery Act (“RCRA”), 42 U.S.C. 6973.

The Department of Justice will receive for a period of thirty (30) days from the date of this publication comments relating to the Consent Decree. Comments should be addressed to the Assistant Attorney General for the Environment and Natural Resources Division, U.S. Department of Justice, and either emailed to pubcomment-ees.enrd@usdoj.gov or mailed to P.O. Box 7611, NW., Washington, DC 20044-7611, and should refer to United States v. Blue Tee Corp., et al., D.J. Ref. 90-11-2-06017/1. Commenters may request an opportunity for a public meeting in the affected area, in accordance with Section 7003(d) of RCRA, 42 U.S.C. 6973(d).

The Consent Decree may be examined at the Office of the United States Attorney, 1200 Epic Center, 301 N. Main Street, Wichita, KS 67202-4812, and at the offices of EPA, Region 7, 901 N. 5th Street, Kansas City, Kansas 66101. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $53.25 (25 cents per page reproduction cost) payable to the U.S. Treasury or, if by email or fax, forward a check in that amount to the Consent Decree Library at the stated address.

Maureen M. Katz,
Assistant Chief, Environmental Enforcement Section, Environment and Natural Resources Division.

[FR Doc. E8-25609 Filed 10-27-08; 8:45 am]

BILLING CODE 4410-15-P